DEPARTMENT OF HEALTH AND HUMAN SERVICES

Centers for Disease Control and Prevention

[Docket No. CDC-2024-0090]

Availability of Draft Vessel Sanitation Program (VSP) Environmental Public Health Standards and VSP Construction Standards

AGENCY: Centers for Disease Control and Prevention (CDC), Department of Health and Human Services (HHS).

ACTION: Notice with comment period.

SUMMARY: The Centers for Disease Control and Prevention (CDC) in the Department of Health and Human Services (HHS) announces the opening of a docket to obtain comment on the draft Vessel Sanitation Program (VSP) Environmental Public Health Standards and VSP Construction Standards. Information about locating these documents can be found in the supporting materials section. VSP established these public health standards to target the control and prevention of environmentally associated illnesses and hazards on cruise ships. VSP inspectors use these standards to conduct operational public health inspections on cruise ships under the program's jurisdiction and to complete cruise ship construction activities at industry request.

DATES: Written comments must be received on or before December 30, 2024.

ADDRESSES: You may submit comments, identified by Docket No. CDC-2024-0090 by either of the methods listed below. Do not submit comments by email. CDC does not accept comments by email.

• Federal eRulemaking Portal: https://www.regulations.gov/. Follow the instructions for submitting comments.

• Mail: Vessel Sanitation Program, National Center for Environmental Health, Centers for Disease Control and Prevention, 4770 Buford Highway NE, MS S106-6, Atlanta, Georgia 30341.

Instructions: All submissions received must include the agency name and Docket Number. All relevant comments received will be posted without change to https://www.regulations.gov/, including any personal information provided. For access to the docket to read background documents or comments received, go to https://www.regulations.gov/.

FOR FURTHER INFORMATION CONTACT: Captain Luis Rodriguez, Vessel Sanitation Program, National Center for Environmental Health, Centers for Disease Control and Prevention, 4770 Buford Highway NE, MS S106-6, Atlanta, Georgia 30341; email: vsp@cdc.gov; phone: (800) 323-2132.

SUPPLEMENTARY INFORMATION:

Public Participation

Interested persons or organizations are invited to participate by submitting written views, recommendations, and data.

Please note that comments received, including attachments and other supporting materials, are part of the public record and are subject to public disclosure. Comments will be posted on https://www.regulations.gov/. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. Do not submit comments by email. CDC does not accept comment by email.

Background

HHS/CDC established the Vessel Sanitation Program (VSP) in the 1970s as a cooperative activity with the cruise ship industry. VSP helps the cruise ship industry prevent and control the introduction and spread of environmentally associated illnesses and hazards on cruise ships. VSP operates under the authority of the Public Health Service Act (Section 361 of the Public Health Service Act; 42 U.S.C. 264, “Control of Communicable Diseases”). Regulations found at 42 CFR 71.41 (Foreign Quarantine—Requirements Upon Arrival at U.S. Ports: Sanitary Inspection; General Provisions) state that carriers arriving at U.S. ports from a foreign area are subject to sanitary inspections to determine whether potential rodent, insect, or other vermin infestations; contaminated food or water; or other sanitary conditions require measures to prevent introduction or spread of communicable diseases.

New requirements are not the focus for the VSP Environmental Public Health Standards (formerly the VSP Operations Manual) and VSP Construction Standards (formerly the VSP Construction Guidelines). Updates only clarify content or correct errors in the 2018 editions or address inconsistencies between the 2018 editions and the Food and Drug Administration 2022 Food Code.

The draft VSP Environmental Public Health Standards and VSP Construction Standards are available online at https://www.regulations.gov/, Docket No. CDC-2024-0090, under Supplemental Materials. All public comments will be reviewed and considered when finalizing these documents. Once finalized, documents will be available both in docket CDC-2024-0090 and on CDC's website at https://www.cdc.gov/vessel-sanitation/about/index.html.

Noah Aleshire,
Chief Regulatory Officer, Centers for Disease Control and Prevention.

[FR Doc. 2024-25198 Filed 10-29-24; 8:45 am]

BILLING CODE 4163-18-P